INTERNATIONAL TRADE COMMISSION

[Investigation No. 337-TA-663]

In the Matter of Certain Mobile Telephones and Wireless Communication Devices Featuring Digital Cameras, and Components Thereof; Notice of Commission Decision Not To Review an Initial Determination Amending the Complaint and Notice of Investigation

AGENCY: U.S. International Trade Commission.

ACTION: Notice.

SUMMARY: Notice is hereby given that the U.S. International Trade Commission has determined not to review an initial determination (“ID”) (Order No. 14) issued by the presiding administrative law judge (“ALJ”) in the above-captioned investigation granting leave to complainant Eastman Kodak Co. (“Kodak”) to amend its complaint and the notice of investigation to assert an additional patent claim in the investigation.

FOR FURTHER INFORMATION CONTACT: Paul M. Bartkowski, Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on December 18, 2008, based on a complaint filed by complainant Kodak of Rochester, New York. The complaint alleged violations of section 337 of the Tariff Act of 1930 (19 U.S.C. 1337) in the importation into the United States, the sale for importation, and the sale within the United States after importation of certain mobile telephones and wireless communication devices that infringe certain claims of U.S. Patent Nos. 5,493,335 (“the '335 patent”) and 6,292,218. The complaint named Samsung Electronics Co., Ltd.; Samsung Electronics America, Inc.; Samsung Telecommunications America, LLC; LG Electronics, Inc.; LG Electronics USA; and LG Electronics MobileComm USA, Inc.

On May 26, 2009, the ALJ issued the subject ID, granting Kodak's motion for leave to amend the complaint and the notice of investigation to assert claim 12 of the '335 patent. No petitions for review were filed.

The Commission has determined not to review the subject ID.

The authority for the Commission's determination is contained in section 337 of the Tariff Act of 1930, as amended (19 U.S.C. 1337), and in sections 210.42 of the Commission's Rules of Practice and Procedure (19 CFR 210.42).

By order of the Commission.
Issued: June 17, 2009.
Marilyn R. Abbott,
Secretary to the Commission.

[FR Doc. E9-14665 Filed 6-22-09; 8:45 am]

BILLING CODE 7020-02-P